DEPARTMENT OF COMMERCE

National Oceanic and Atmospheric Administration

RIN 0648-XM07

Taking and Importing Marine Mammals; Undersea Warfare Training Range Activities

AGENCY: National Marine Fisheries Service (NMFS), National Oceanic and Atmospheric Administration (NOAA), Commerce.

ACTION: Notice; receipt of application for letter of authorization; request for comments and information.

SUMMARY: NMFS has received a request from the U.S. Navy (Navy) for authorization for the take of marine mammals incidental to Navy training activities conducted in the Undersea Warfare Training Range (USWTR) off the east coast of the United States. Pursuant to the implementing regulations of the Marine Mammal Protection Act (MMPA), NMFS is announcing our receipt of the Navy's request for the development and implementation of regulations governing the incidental taking of marine mammals and inviting information, suggestions, and comments on the Navy's application and request.

DATES: Comments and information must be received no later than January 20, 2009.

ADDRESSES: Comments on the application should be addressed to Michael Payne, Chief, Permits, Conservation and Education Division, Office of Protected Resources, National Marine Fisheries Service, 1315 East-West Highway, Silver Spring, MD 20910-3225. The mailbox address for providing email comments is PR1.0648-XM07@noaa.gov. NMFS is not responsible for e-mail comments sent to addresses other than the one provided here. Comments sent via e-mail, including all attachments, must not exceed a 10-megabyte file size.

FOR FURTHER INFORMATION CONTACT: Jolie Harrison, Office of Protected Resources, NMFS, (301) 713-2289, ext. 166.

SUPPLEMENTARY INFORMATION:

Availability

A copy of the Navy's application may be obtained by writing to the address specified above (See ADDRESSES), telephoning the contact listed above (see FOR FURTHER INFORMATION CONTACT), or visiting the internet at: http://www.nmfs.noaa.gov/pr/permits/incidental.htm. On September 12, 2008, the Navy made available to the public, the Draft Overseas Environmental Impact Statement (OEIS) / Environmental Impact Statement (EIS) for USWTR. The Draft OEIS/EIS is available at http://projects.earthtech.com/USWTR/EIS/DOEIS-EIS_2008/DOEIS_2008.htm. During the 45-day public comment period, the Navy hosted four public hearings on the proposed action and the potential environmental impact of the construction and operation of an USWTR.

Background

In the case of military readiness activities, sections 101(a)(5)(A) and (D) of the MMPA (16 U.S.C. 1361 et seq.) direct the Secretary of Commerce (Secretary) to allow, upon request, the incidental, but not intentional taking of marine mammals by U.S. citizens who engage in a specified activity (other than commercial fishing), during periods of not more than five consecutive years each, if certain findings are made and regulations are issued or, if the taking is limited to harassment of no more than one year, The Secretary shall issue a notice of proposed authorization for public review.

Authorization for incidental takings may be granted if NMFS finds that the taking will have no more than a negligible impact on the affected species or stock(s), will not have an unmitigable adverse impact on the availability of the species or stock(s) for subsistence uses, and that the permissible methods of taking and requirements pertaining to the mitigation, monitoring and reporting of such taking are set forth.

NMFS has defined “negligible impact” in 50 CFR 216.103 as:

an impact resulting from the specified activity that cannot be reasonably expected to, and is not reasonably likely to, adversely affect the species or stock through effects on annual rates of recruitment or survival.

With respect to military readiness activities, the MMPA defines “harassment” as:

(i) any act that injures or has the significant potential to injure a marine mammal or marine mammal stock in the wild [Level A Harassment]; or (ii) any act that disturbs or is likely to disturb a marine mammal or marine mammal stock in the wild by causing disruption of natural behavioral patterns, including, but not limited to, migration, surfacing, nursing, breeding, feeding, or sheltering, to a point where such behavioral patterns are abandoned or significantly altered [Level B Harassment].

Summary of Request

In February 2008, NMFS received an application from the Navy requesting authorization for the take of 20 species of marine mammals incidental to upcoming Navy training activities to be conducted in the USWTR located in an area offshore of northeast Florida. These training activities will occur over the course of 5 years and are classified as military readiness activities. The Navy states that USWTR training activities may expose some of the marine mammals present in the area to sound from various mid-frequency and high-frequency active tactical sonar sources. The Navy requests authorization to take individuals of 20 species of marine mammals by Level B behavioral harassment.

Specified Activities

In the application submitted to NMFS, the Navy requests authorization for take of marine mammals incidental to antisubmarine warfare (ASW) training activities conducted in the USWTR, located within a 500-square-nautical mile (NM²) (1,713 square-kilometer (km²)) area offshore of northeast Florida. The edge of the range would be approximately 94 km (51 NM) from shore. The depth of water at the proposed site ranges from 37 to 366 meters (m) (120 to 1,200 feet (ft)).

ASW training would involve up to three vessels and two aircraft using the range for any one training event, although events would typically involve fewer units. The proposed action would require logistical support for ASW training, including the handling (launch and recovery) of exercise torpedoes (non-explosive) and submarine target simulators. Table 1-1 in the Navy's application lists the activity types and the equipment and platforms involved in USWTR activities.

Information Solicited

Interested persons may submit information, suggestions, and comments concerning the Navy's request (see ADDRESSES). All information, suggestions, and comments related to the Navy's USWTR request and NMFS' potential development and implementation of regulations governing the incidental taking of marine mammals by the Navy's USWTR activities will be considered by NMFS in developing, if appropriate, the most effective regulations governing the issuance of letters of authorization.

Dated: December 16, 2008.
James H. Lecky,
Director, Office of Protected Resources, National Marine Fisheries Service.

[FR Doc. E8-30240 Filed 12-18-08; 8:45 am]

BILLING CODE 3510-22-S